DEPARTMENT OF THE INTERIOR

Fish and Wildlife Service

[FWS-R8-ES-2011-N076; 80221-1113-0000-C4]

Endangered and Threatened Wildlife and Plants; 5-Year Reviews of Species in California, Nevada, and the Klamath Basin of Oregon

AGENCY: Fish and Wildlife Service, Interior.

ACTION: Notice.

SUMMARY: We, the U.S. Fish and Wildlife Service, are initiating 5-year reviews for 53 species under the Endangered Species Act of 1973, as amended (Act). We conduct these reviews to ensure that our classification of each species on the Lists of Endangered and Threatened Wildlife and Plants as threatened or endangered is accurate. A 5-year review assesses the best scientific and commercial data available at the time of the review. We are requesting any information that has become available since our original listing of each of these species. Based on review results, we will determine whether we should change the listing status of any of these species. In this notice, we also announce 5-year reviews that were completed for 32 species in California and Nevada between April 1, 2010, and March 16, 2011.

DATES: To ensure consideration, please send your written information by July 25, 2011.

ADDRESSES: For how and where to send comments or information, see “VIII., Contacts.”

FOR FURTHER INFORMATION CONTACT: For species-specific information, contact the appropriate person listed under VIII., Contacts.” For contact information about completed 5-year reviews, see ” IX., Completed 5-Year Reviews.” Individuals who are hearing-impaired or speech-impaired may call the Federal Relay Service at (800) 877-8337 for TTY assistance.

SUPPLEMENTARY INFORMATION:

I. Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, or to reclassify it from threatened to endangered. Any change in Federal classification requires a separate rulemaking process.

In classifying, we use the following definitions, from 50 CFR 424.02:

(A) Species includes any species or subspecies of fish, wildlife, or plant, and any distinct population segment of any species of vertebrate, that interbreeds when mature;

(B) Endangered species means any species that is in danger of extinction throughout all or a significant portion of its range; and

(C) Threatened species means any species that is likely to become an endangered species within the foreseeable future throughout all or a significant portion of its range.

We must support delisting by the best scientific and commercial data available, and only consider delisting if data substantiate that the species is neither endangered nor threatened for one or more of the following reasons (50 CFR 424.11(d)):

(A) The species is considered extinct;

(B) The species is considered to be recovered; or

(C) The original data available when the species was listed, or the interpretation of data, were in error.

Our regulations at 50 CFR 424.21 require that we publish a notice in the Federal Register announcing the species we are reviewing.

II. What species are under review?

This notice announces our active 5-year status reviews of the species in Table 1.

Table 1—Summary of Listing Information, 22 Animal Species and 31 Plant Species in California and Nevada
Common name | Scientific name | Status | Where listed | Final listing rule
ANIMALS
Behren's silverspot butterfly | Speyeria zerene behrensii | Endangered | U.S.A. (CA) | 62 FR 64306; 12/05/1997
California freshwater shrimp | Syncaris pacifica | Endangered | U.S.A (CA) | 53 FR 43884; 10/31/1988
California red-legged frog | Rana draytonii | Threatened | U.S.A (CA) | 61 FR 25813; 05/23/1996
California tiger salamander (Central) | Ambystoma californiense | Threatened | U.S.A (CA) | 69 FR 47212; 08/04/2004
Conservancy fairy shrimp | Branchinecta conservatio | Endangered | U.S.A (CA) | 59 FR 48136; 09/19/1994
Delhi sands flower-loving fly | Rhaphiomidas terminatus abdominalis | Endangered | U.S.A. (CA) | 58 FR 49887; 09/23/1993
El Segundo blue butterfly | Euphilotes battoides allyni | Endangered | U.S.A. (CA) | 41 FR 22041; 06/01/1976
Giant garter snake | Thamnophis gigas | Threatened | U.S.A (CA) | 58 FR 54053; 10/20/1993
Kern primrose sphinx moth | Euproserpinus euterpe | Threatened | U.S.A (CA) | 45 FR 24088; 04/08/1980
Laguna Mountains skipper | Pyrgus ruralis lagunae | Endangered | U.S.A. (CA) | 62 FR 2313; 01/16/1997
Lange's metalmark butterfly | Apodemia mormo langei | Endangered | U.S.A (CA) | 41 FR 22041; 06/01/1976
Longhorn fairy shrimp | Branchinecta longiantenna | Endangered | U.S.A (CA) | 59 FR 48136; 09/19/1994
Lost River sucker | Deltistes luxatus | Endangered | U.S.A. (OR, CA) | 53 FR 27130; 07/18/1988
Lotis blue butterfly | Lycaeides argyrognomon lotis | Endangered | U.S.A. (CA) | 41 FR 22041; 06/01/1976
Morro shoulderband snail | Helminthoglypta walkeriana | Endangered | U.S.A. (CA) | 59 FR 64613; 12/15/1994
Palos Verdes blue butterfly | Glaucopsyche lygdamus palosverdesensis | Endangered | U.S.A. (CA) | 45 FR 44939; 07/02/1980
San Francisco garter snake | Thamnophis sirtalis tetrataenia | Endangered | U.S.A (CA) | 32 FR 4001; 03/11/1967
Shortnose sucker | Chasmistes brevirostris | Endangered | U.S.A. (OR, CA) | 53 FR 27130; 07/18/1988
Smith's blue butterfly | Euphilotes enoptes smithi | Endangered | U.S.A. (CA) | 41 FR 22041; 06/01/1976
Vernal pool fairy shrimp | Branchinecta lynchi | Threatened | U.S.A (CA, OR) | 59 FR 48136; 09/19/1994
Vernal pool tadpole shrimp | Lepidurus packardi | Endangered | U.S.A (CA) | 59 FR 48136; 09/19/1994
Western snowy plover | Charadrius alexandrines nivosus | Threatened | U.S.A. (CA, OR, WA); Mexico (Baja) | 58 FR 12864; 03/05/1993
PLANTS
Amargosa niterwort | Nitrophila mohavensis | Endangered | U.S.A. (CA, NV) | 50 FR 20777; 05/20/1985
Ash-grey paintbrush | Castilleja cinerea | Threatened | U.S.A. | 63 FR 49006; 09/14/1998
Ash Meadows gumplant | Grindelia fraxino-pratensis | Threatened | U.S.A. (CA, NV) | 50 FR 20777; 05/20/1985
Antioch Dunes evening primrose | Oenothera deltoides howellii | Endangered | U.S.A (CA) | 43 FR 17910; 04/26/1978
Bear Valley sandwort | Arenaria ursina | Threatened | U.S.A. (CA) | 63 FR 49006; 09/14/1998
Ben Lomond spineflower | Chorizanthe pungens var. hartwegiana | Endangered | U.S.A. (CA) | 59 FR 5499; 02/04/1994
California taraxacum | Taraxacum californicum | Endangered | U.S.A. (CA) | 63 FR 49006; 09/14/1998
Catalina Island mountain mahogany | Cercocarpus traskiae | Endangered | U.S.A. (CA) | 62 FR 42692; 08/08/1997
Chinese Camp brodiaea | Brodiaea pallida | Threatened | U.S.A (CA) | 63 FR 49022; 09/14/1998
Chorro Creek bog thistle | Cirsium fontinale var. obispoense | Endangered | U.S.A. (CA) | 59 FR 64613; 12/15/1994
Contra Costa wallflower | Erysimum capitatum angustatum | Endangered | U.S.A (CA) | 43 FR 17910; 04/26/1978
Gowen cypress | Cupressus goveniana ssp. goveniana | Threatened | U.S.A. (CA) | 63 FR 43100; 08/12/1998
Hartweg's golden sunburst | Pseudobahia bahiifolia | Endangered | U.S.A (CA) | 62 FR 5542; 02/06/1997
Hoffmann's rock-cress | Arabis hoffmannii | Endangered | U.S.A. (CA) | 62 FR 40954; 01/31/1997
Howell's spineflower | Chorizanthe howellii | Endangered | U.S.A. (CA) | 57 FR 27848; 06/22/1992
Keck's checkermallow | Sidalcea keckii | Endangered | U.S.A (CA) | 65 FR 7757; 02/16/2000
Kneeland prairie pennycress | Thlaspi californicum (Noccaea fendleri) | Endangered | U.S.A. (CA) | 65 FR 6332; 02/09/2000
Mariposa pussypaws | Calyptridium pulchellum | Threatened | U.S.A (CA) | 63 FR 49022; 09/14/1998
Monterey gilia | Gilia tenuiflora ssp. arenaria | Endangered | U.S.A. (CA) | 57 FR 27848; 06/22/1992
Morro manzanita | Arctostaphylos morroensis | Threatened | U.S.A. (CA) | 59 FR 64613; 12/15/1994
Orcutt's spineflower | Chorizanthe orcuttiana | Endangered | U.S.A. (CA) | 61 FR 52370; 10/07/1996
Red Hills vervain | Verbena californica | Threatened | U.S.A (CA) | 63 FR 49006; 09/14/1998
San Jacinto Valley crownscale | Atriplex coronata var. notatior | Endangered | U.S.A. (CA) | 63 FR 54975; 10/13/1998
San Joaquin adobe sunburst | Pseudobahia peirsonii | Threatened | U.S.A (CA) | 62 FR 5542; 02/06/1997
Santa Barbara Island liveforever | Dudleya traskiae | Endangered | U.S.A. (CA) | 43 FR 17916; 04/26/1978
Santa Cruz Island bush-mallow | Malacothamnus fasciculatus var. nesioticus | Endangered | U.S.A. (CA) | 62 FR 40954; 07/31/1997
Santa Rosa Island manzanita | Arctostaphylos confertiflora | Endangered | U.S.A. (CA) | 62 FR 40957; 07/31/1997
Showy indian clover | Trifolium amoenum | Endangered | U.S.A (CA) | 62 FR 54791; 10/22/1997
Soft-leaved paintbrush | Castilleja mollis | Endangered | U.S.A. (CA) | 62 FR 40957; 07/31/1997
Southern Mountain wild buckwheat | Eriogonum kennedyi var. austromontanum | Threatened | U.S.A. (CA) | 63 FR 49006; 09/14/1998
Yreka phlox | Phlox hirsuta | Endangered | U.S.A.(CA) | 65 FR 5268; 02/03/2000

III. What information do we consider in our review?

We consider all new information available at the time we conduct a 5-year status review. We consider the best scientific and commercial data that has become available since our current listing determination or most recent status review, such as:

(A) Species biology, including but not limited to population trends, distribution, abundance, demographics, and genetics;

(B) Habitat conditions, including but not limited to amount, distribution, and suitability;

(C) Conservation measures that have been implemented that benefit the species;

(D) Threat status and trends (see five factors under heading “IV., How Do We Determine Whether a Species Is Endangered or Threatened?”); and

(E) Other new information, data, or corrections, including but not limited to taxonomic or nomenclatural changes, identification of erroneous information contained in the List, and improved analytical methods.

We specifically request information regarding data from any systematic surveys, as well as any studies or analysis of data that may show population size or trends; information pertaining to the biology or ecology of these species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we request recommendations pertaining to the development of, or potential updates to, recovery plans and additional actions or studies that would benefit these species in the future.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Under section 4(b)(1) of the Act, we must base our assessment of these factors solely on the best scientific and commercial data available.

V. What could happen as a result of our review?

For each species under review, if we find new information that indicates a change in classification may be warranted, we may propose a new rule that could do one of the following:

(A) Reclassify the species from threatened to endangered (uplist);

(B) Reclassify the species from endangered to threatened (downlist); or

(C) Remove the species from the List (delist).

If we determine that a change in classification is not warranted, then the species remains on the List under its current status.

VI. Request for New Information

To ensure that a 5-year review is complete and based on the best available scientific and commercial information, we request new information from all sources. See “III., What Information Do We Consider in Our Review?” for specific criteria. If you submit information, support it with documentation such as maps, bibliographic references, methods used to gather and analyze the data, and/or copies of any pertinent publications, reports, or letters by knowledgeable sources.

Submit your comments and materials to the appropriate Fish and Wildlife Office listed under “VIII., Contacts.”

VII. Public Availability of Comments

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where the comments are submitted.

VIII. Contacts

Send your comments and information on the following species, as well as requests for information, to the corresponding contacts/addresses. You may view information we receive in response to this notice, as well as other documentation in our files, at the following locations by appointment, during normal business hours.

For the Behren's silverspot butterfly, Howell's spineflower, Kneeland prairie pennycress, lotis blue butterfly, and western snowy plover, send information to Field Supervisor, Attention: 5-Year Review, U.S. Fish and Wildlife Service, Arcata Fish and Wildlife Office, 1655 Heindon Road, Arcata, CA 95521. Information may also be submitted electronically at arcata@fws.gov. To obtain further information, contact Kathleen Brubaker at (707) 822-7201.

For the ash-grey paintbrush, Bear Valley sandwort, California taraxacum, Catalina Island mountain mahogany, Delhi Sands flower-loving fly, El Segundo blue butterfly, Laguna Mountains skipper, Orcutt's spineflower, Palos Verdes blue butterfly, San Jacinto Valley crownscale, and Southern Mountain wild buckwheat, send information to Field Supervisor, Attention: 5-Year Review, U.S. Fish and Wildlife Service, Carlsbad Fish and Wildlife Office, 6010 Hidden Valley Road, Suite 101, Carlsbad, CA 92011. Information may also be submitted electronically at fw8cfwocomments@fws.gov. To obtain further information, contact Bradd Baskerville-Bridges at the Carlsbad Fish and Wildlife Office at (760) 431-9440.

For the Lost River sucker and shortnose sucker, send information to Field Supervisor, Attention: 5-Year Review, U.S. Fish and Wildlife Service, Klamath Falls Fish and Wildlife Office, 1936 California Avenue, Klamath Falls, OR 97601. Information may also be submitted electronically at FW8KFFWOESComments@fws.gov. To obtain further information, contact Josh Rasmussen at the Klamath Falls Fish and Wildlife Office at (541) 885-8481.

For the Amargosa niterwort and Ash Meadows gumplant, send information to State Supervisor, Attention: 5-Year Review, U.S. Fish and Wildlife Service, Nevada Fish and Wildlife Office, 1340 Financial Blvd., Suite 234, Reno, Nevada 89502-7147. Information may also be submitted electronically at fw1nfwo_5yr@fws.gov. To obtain further information, contact Jill Ralston at the Nevada Fish and Wildlife Office at (775) 861-6300.

For the Antioch Dunes evening primrose, California freshwater shrimp, California red-legged frog, California tiger salamander (Central), Chinese Camp brodiaea, Conservancy fairy shrimp, Contra Costa wallflower, Giant garter snake, Hartweg's golden sunburst, Keck's checkermallow, Kern primrose sphinx moth, Lange's metalmark butterfly, longhorn fairy shrimp, Mariposa pussypaws, Red Hills vervain, San Francisco garter snake, San Joaquin adobe sunburst, showy indian clover, vernal pool fairy shrimp, and vernal pool tadpole shrimp, send information to Field Supervisor, Attention: 5-Year Review, U.S. Fish and Wildlife Service, Sacramento Fish and Wildlife Office, 2800 Cottage Way, Room W-2605, Sacramento, CA 95825. Information may also be submitted electronically at fw1sfo5year@fws.gov. To obtain further information, contact Josh Hull at the Sacramento Fish and Wildlife Office at (916) 414-6600.

For the Ben Lomond spineflower, Chorro Creek bog thistle, Gowen cypress, Hoffmann's rock-cress, Monterey gilia, Morro manzanita, Morro shoulderband snail, Santa Barbara Island liveforever, Santa Cruz Island bush-mallow, Santa Rosa Island manzanita, Smith's blue butterfly, and soft-leaved paintbrush, send information to Field Supervisor, Attention: 5-Year Review, U.S. Fish and Wildlife Service, Ventura Fish and Wildlife Office, 2493 Portola Road, Suite B, Ventura, CA 93003. Information may also be submitted electronically at fw1vfwo5year@fws.gov. To obtain further information on the animal species, contact Mike McCrary at the Ventura Fish and Wildlife Office at (805) 644-1766. To obtain further information on the plant species, contact Connie Rutherford at the Ventura Fish and Wildlife Office at (805) 644-1766.

For the Yreka phlox, send information to Field Supervisor, Attention: 5-Year Review, U.S. Fish and Wildlife Service, Yreka Fish and Wildlife Office, 1829 South Oregon Street Yreka, CA 96097. To obtain further information, contact Nadine Kanim at the Yreka Fish and Wildlife Office at (530) 842-5763.

All electronic information must be submitted in Text format or Rich Text format. Include the following identifier in the subject line of the e-mail: Information on 5-year review for [NAME OF SPECIES], and include your name and return address in the body of your message.

IX. Completed 5-Year Reviews

We also take this opportunity to inform the public of 5-year reviews that we completed between April 1, 2010, and March 16, 2011, for 31 species in California and Nevada (Table 2). In addition, we include in Table 2 the desert pupfish for which a review was completed in which we concurred. Reviews for these 32 species can be found at http://www.fws.gov/endangered/species/index.html. Any recommended change in listing status resulting from these completed reviews will require a separate rulemaking process.

Table 2—Summary of 32 Species in California and Nevada for Which 5-Year Reviews Were Completed Between April 1, 2010 and March 16, 2011
Common name | Scientific name | Recommendation | Lead Fish and Wildlife Office | Contact
ANIMALS
Coachella Valley fringe-toed lizard | Uma inornata | No status change | Carlsbad | Bradd Baskerville-Bridges (760) 431-9440.
Coastal California gnatcatcher | Polioptila californica california | No status change | Carlsbad | Bradd Baskerville-Bridges (760) 431-9440.
Delta smelt | Hypomesus transpacificus | Uplist | San Francisco Bay Delta | Jennifer Norris (916) 930-5614.
Desert pupfish | Cyprinodon macularius | No status change | Tucson, Arizona sub-office | Doug Duncan (520) 670-6150.
Desert tortoise (Mojave population) | Gopherus agassizii | No status change | Nevada | Jill Ralston (775) 861-6300.
Pacific pocket mouse | Perognathus longimembris pacificus | No status change | Carlsbad | Bradd Baskerville-Bridges (760) 431-9440.
Santa Ana sucker | Catostomus santaanae | No status change | Carlsbad | Bradd Baskerville-Bridges (760) 431-9440.
PLANTS
Big-leaved crownbeard | Verbesina dissita | No status change | Carlsbad | Bradd Baskerville-Bridges (760) 431-9440.
California Orcutt grass | Orcuttia californica | No status change | Carlsbad | Bradd Baskerville-Bridges (760) 431-9440.
Del Mar manzanita | Arctostaphylos glandulosa subsp. crassifolia | No status change | Carlsbad | Bradd Baskerville-Bridges (760) 431-9440.
Fountain thistle | Cirsium fontinale var. fontinale | No status change | Sacramento | Josh Hull (916) 414-6600.
Ione buckwheat | Eriogonum apricum (inclusive of vars. apricum and prostratum) | No status change | Sacramento | Josh Hull (916) 414-6600.
Ione manzanita | Arctostaphylos myrtifolia | Uplist | Sacramento | Josh Hull (916) 414-6600.
Island malacothrix | Malacothrix squalida | No status change | Ventura | Connie Rutherford (805) 644-1766.
Island rush-rose | Helianthemum greenei | No status change | Ventura | Connie Rutherford (805) 644-1766.
La Graciosa thistle | Cirsium loncholepis | No status change | Ventura | Connie Rutherford (805) 644-1766.
Laguna Beach liveforever | Dudleya stolonifera | No status change | Carlsbad | Bradd Baskerville-Bridges (760) 431-9440.
Lompoc yerba santa | Eriodictyon capitatum | No status change | Ventura | Connie Rutherford (805) 644-1766.
Otay mesa mint | Pogogyne nudiuscula | No status change | Carlsbad | Bradd Baskerville-Bridges (760) 431-9440.
Presidio clarkia | Clarkia franciscana | No status change | Sacramento | Josh Hull (916) 414-6600.
San Diego ambrosia | Ambrosia pumila | No status change | Carlsbad | Bradd Baskerville-Bridges (760) 431-9440.
San Diego button celery | Eryngium aristulatum var. parishii | No status change | Carlsbad | Bradd Baskerville-Bridges (760) 431-9440.
San Diego mesa mint | Pogogyne abramsii | No status change | Carlsbad | Bradd Baskerville-Bridges (760) 431-9440.
San Joaquin woolly-threads | Monolopia (=Lembertia) congdonii | No status change | Sacramento | Josh Hull (916) 414-6600.
San Mateo thornmint | Acanthomintha obovata ssp. duttonii | No status change | Sacramento | Josh Hull (916) 414-6600.
Santa Cruz Island malacothrix | Malacothrix indecora | No status change | Ventura | Connie Rutherford (805) 644-1766.
Slender-horned spineflower | Dodecahema leptoceras | No status change | Carlsbad | Bradd Baskerville-Bridges (760) 431-9440.
Slender-petaled mustard (thelypodium) | Thelypodium stenopetalum | No status change | Carlsbad | Bradd Baskerville-Bridges (760) 431-9440.
Sonoma spineflower | Chorizanthe valida | No status change | Sacramento | Josh Hull (916) 414-6600.
Tiburon jewelflower | Streptanthus niger | No status change | Sacramento | Josh Hull (916) 414-6600.
Ventura marsh milk-vetch | Astragalus pycnostachyus var. lanosi | No status change | Ventura | Connie Rutherford (805) 644-1766.
White-rayed pentachaeta | Pentachaeta bellidiflora | No status change | Sacramento | Josh Hull (916) 414-6600.

X. Authority

We publish this notice under the authority of the Endangered Species Act of 1973, as amended (16 U.S.C. 1531 et seq.).

Dated: May 18, 2011.
Alexandra Pitts,
Acting Regional Director, Pacific Southwest Region, U.S. Fish and Wildlife Service.

[FR Doc. 2011-12861 Filed 5-24-11; 8:45 am]

BILLING CODE 4310-55-P